NATIONAL AERONAUTICS AND SPACE ADMINISTRATION

[Notice: [22-051]

Name of Information Collection: Remote Psychoacoustic Test, Phase 1, for Urban Air Mobility Vehicle Noise Human Response

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by August 8, 2022.

ADDRESSES: Written comments and recommendations for this information collection should be sent within 30 days of publication of this notice to www.reginfo.gov/public/do/PRAMain. Find this particular information collection by selecting “Currently under 30-day Review-Open for Public Comments” or by using the search function.

FOR FURTHER INFORMATION CONTACT: Requests for additional information or copies of the information collection instrument(s) and instructions should be directed to Claire Little, NASA Clearance Officer, NASA Headquarters, 300 E Street SW, JF0000, Washington, DC 20546, 202-358-2375 or email claire.a.little@nasa.gov.

SUPPLEMENTARY INFORMATION:

I. Abstract

The National Aeronautics and Space Administration (NASA) is leading an Urban Air Mobility (UAM) vehicle noise cooperative human response study involving multiple testing locations, other US government agencies, academia, and industry. Overarching study goals are:

1. Obtain a wide range of UAM vehicle sounds for use in human response studies.

2. Provide insights into human response of UAM vehicle noise that will collectively be challenging for any single agency or organization to acquire.

3. Create an open database of human response to UAM vehicle noise to support follow-on studies.

The UAM vehicle noise cooperative human response study is currently divided into two phases: a Feasibility Phase (Phase 1) and Phase 2. Each phase executes one or more psychoacoustic tests. Phase 1 seeks to demonstrate and refine the test methodology that will be used in Phase 2. Since UAM vehicle noise may be challenging to acquire as stimuli, the Phase 1 psychoacoustic test will use other types of aircraft noise as stimuli. Phase 2 will focus on capturing human response to UAM vehicle noise stimuli.

This information collection is for the Phase 1 psychoacoustic test. A remote psychoacoustic testing platform will allow recruited test subjects to listen to NASA-provided test sound stimuli over the internet using their own computers and headphones and register their annoyance rating for each.

The outcome of the Phase 1 psychoacoustic test is a demonstrated capability for ranking of sound stimuli by annoyance ratings from remote test subjects.

II. Methods of Collection

Test subjects will electronically indicate their annoyance rating to test stimuli into an interface displayed on their own computers.

III. Data

Title: Remote Psychoacoustic Test for Urban Air Mobility Vehicle Noise Human Response.

OMB Number:

Type of review: New.

Affected Public: Individuals.

Estimated Annual Number of Activities: 1.

Estimated Number of Respondents per Activity: 80.

Annual Responses: 80.

Estimated Time per Response: 80 minutes.

Estimated Total Annual Burden Hours: 107 hours.

Estimated Total Annual Cost: $4,280.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Cheryl Parker,
Federal Register Liaison Officer.

[FR Doc. 2022-14578 Filed 7-7-22; 8:45 am]

BILLING CODE 7510-13-P